GENERAL SERVICES ADMINISTRATION

[Notice MV-2018-01; Docket No. 2018-0002, Sequence No. 29]

Federal Acquisition Regulation; FY 2019 FAR Reissue Posted to the Acquisition.gov Website

AGENCY: General Services Administration (GSA).

ACTION: Notice.

SUMMARY: This notice advises users that the FY 2019 Federal Acquisition Regulation (FAR) Reissue will be available for download at https://www.acquisition.gov/browsefar.

DATES: Applicable date: November 13, 2018.

FOR FURTHER INFORMATION CONTACT: The Regulatory Secretariat Division, at 202-501-4755; or via email at GSARegSec@gsa.gov. Please cite 2019 FAR Reissue Posted to the Acquisition.gov website.

SUPPLEMENTARY INFORMATION: Periodically, the FAR is reissued because of administrative necessity. Although the reissue does not alter the language of the FAR, it does contain several administrative updates to improve the user experience and increase accessibility. The following updates are to features that do not appear in the Code of Federal Regulations:

• Future Federal Acquisition Circulars (FAC) will be renumbered so that the next issued FAC will be FAC 2019-01. This reissue will replace the prior numbering system which used FACs 2005-01 through FAC 2005-101. Because of the renumbering, the Foreword section of the FAR will be updated to reflect the current FAC number.

• The FAR Looseleaf package will no longer be offered. Instead, a List of Sections Affected (LSA) will be included on the https://acquisition.gov website, and updated for each FAC.

• The matrix will continue to be available in the PDF version of the FAR. However, acquisition.gov will be releasing the new Smart Matrix. The new FAR Smart Matrix includes a filterable clause matrix, file saving options, improved search capabilities, as well as hyperlinked clauses, provisions and prescriptions to the current version of the FAR.

• The FAR will be available in HTML, XML, Word, and PDF formats. Users intending to print the FAR can refer to the Adobe PDF file.

• FAR Proposed Rule Publications that are open for comments are available at https://acquisition.gov/requesting_comments.

• The Federal Alert Notices (FAN) are available at https://acquisition.gov/fan_list.

Although these changes do not alter the Code of Federal Regulations, they will provide smoother access to the FAR for new and experienced users alike. Please contact the Regulatory Secretariat Division with any questions or concerns.

Dated: October 24, 2018.
William F. Clark,
Director, Office of Government-wide Acquisition Policy, Office of Acquisition Policy, Office of Government-wide Policy.

[FR Doc. 2018-23568 Filed 10-26-18; 8:45 am]

BILLING CODE 6820-EP-P